ENVIRONMENTAL PROTECTION AGENCY

40 CFR Parts 52 and 81

[Docket OR-01-006b; FRL-7241-1]

Approval and Promulgation of State Implementation Plans and Designation of Areas for Air Quality Planning Purposes: Oregon; Medford Carbon Monoxide Nonattainment Area

AGENCY: Environmental Protection Agency.

ACTION: Proposed rule.

SUMMARY: The Environmental Protection Agency (EPA) proposes to approve revisions to Oregon's State Implementation Plan (SIP) which were submitted on May 31, 2001. These revisions consist of: the 1993 carbon monoxide (CO) base/attainment year emissions inventory for Medford, Oregon and the revised Medford CO maintenance plan. EPA also proposes to approve Oregon's request for redesignation of Medford from nonattainment to attainment for CO.

DATES: Written comments must be received by August 23, 2002.

ADDRESSES: Written comments should be addressed to Connie Robinson, EPA, Region 10, Office of Air Quality (OAQ-107), at the address listed below.

Copies of the State's request and other information supporting this action are available for inspection during normal business hours at the following locations: EPA, Region 10, Office of Air Quality (OAQ-107), 1200 Sixth Avenue, Seattle, Washington 98101, and State of Oregon Department of Environmental Quality, 811 SW Sixth Avenue, Portland, Oregon 97204-1390.

FOR FURTHER INFORMATION CONTACT: Connie Robinson, EPA, Region 10, Office of Air Quality (OAQ-107), Seattle, Washington, (206) 553-1086.

SUPPLEMENTARY INFORMATION: In the Final Rules section of this Federal Register, the EPA is approving the State's SIP submittal as a direct final rule without prior proposal because the Agency views this as a noncontroversial submittal and anticipates no adverse comments. If no adverse comments are received in response to this action, no further activity is contemplated.

If the EPA receives adverse comments, the direct final rule will be withdrawn and all public comments received will be addressed in a subsequent final rule based on this proposed rule. The EPA will not institute a second comment period. Any parties interested in commenting on this action should do so at this time. Please note that if we receive adverse comment on an amendment, paragraph, or section of this rule and if that provision may be severed from the remainder of the rule, we may adopt as final those provisions of the rule that are not the subject of an adverse comment.

For additional information, see the Direct Final rule which is located in the Rules section of this Federal Register.

Dated: June 25, 2002.
Ronald A. Kreizenbeck,
Acting Regional Administrator, Region 10.

[FR Doc. 02-18585 Filed 7-23-02; 8:45 am]

BILLING CODE 6560-50-P